DEPARTMENT OF STATE

[Public Notice 5574]

Department of State Performance Review Board Members (at Large Board)

In accordance with section 4314(c)(4) of the Civil Service Reform Act of 1978 (Pub. L. 95-454), the Executive Resources Board of the Department of State has appointed the following individuals to the Department of State Performance Review Board (At-Large):

Susan Burk, Deputy Coordinator for Homeland Security, Office of the Secretary, Department of State;

John Kim, Assistant Legal Adviser for Treaty Affairs, Office of Legal Adviser, Department of State;

William Todd, Deputy Inspector General, Office of the Inspector General, Department of State;

Gretchen Welch, Director, Office of Policy, Planning and Resources, Office of the Under Secretary for Public Diplomacy and Public Affairs, Department of State; (Outside Member)

Ruth Whiteside, Director, Office of the Director, Foreign Service Institute, Department of State;

Dated: September 15, 2006.
George M. Staples,
Director General of the Foreign Service and Director of Human Resources, Department of State.

[FR Doc. 06-8537 Filed 10-11-06; 8:45 am]

BILLING CODE 4710-15-M